DEPARTMENT OF DEFENSE

Department of the Navy

Notice of Intent To Grant Exclusive Patent License; Harbor Offshore, Inc; Correction

AGENCY: Department of the Navy, DOD.

ACTION: Notice; correction.

SUMMARY: The Department of the Navy published a document in the Federal Register of May 23, 2003, giving notice of its intent to grant to Harbor Offshore, Inc. a revocable, nonassignable, exclusive license in the United States, to Application Serial No.10/390404 entitled “A Port Security Barrier System”. As well as Navy Case No. 84694 entitled “In Port Barrier System (IPBS).” The document contained an incorrect address and incorrect contact information.

FOR FURTHER INFORMATION CONTACT: Kurt Buehler, (805) 982-4886.

Correction

In the Federal Register of May 23, 2003, in FR Doc. 03-12957, on pages 28200-28201, in the first column of page 28201, correct the ADDRESS and FOR FURTHER INFORMATION CONTACT captions to read:

ADDRESS: Written objections are to be filed with Kurt Buehler, NFESC, Code 423, 1100 23rd Ave., Port Hueneme, CA 93043-4370.

FOR FURTHER INFORMATION CONTACT: Mr. Kurt Buehler, Office of Research and Technology Applications, NFESC, Code 423, 1100 23rd Ave., Port Hueneme, CA 93043-4370, telephone (805) 982-4886.

Dated: July 21, 2003.
E.F. McDonnell,
Major, U.S. Marine Corps, Federal Register Liaison Officer.

[FR Doc. 03-19211 Filed 7-28-03; 8:45 am]

BILLING CODE 3810-FF-P